DEPARTMENT OF THE INTERIOR

National Park Service

Final Environmental Impact Statement and General Management Plan; San Juan Island National Historical Park, San Juan County, WA; Notice of Availability

SUMMARY: Pursuant to section 102(2)(C) of the National Environmental Policy Act of 1969 (Pub. L. 91-190, as amended), and the Council on Environmental Quality Regulations (40 CFR Part 1500-1508), the National Park Service (NPS), Department of the Interior, has prepared a final environmental impact statement (FEIS) for updating the General Management Plan (GMP) for San Juan Island National Historical Park located in San Juan County, Washington. The current GMP was prepared in 1979. This FEIS describes and analyzes three GMP alternatives that respond to both NPS planning requirements and to the public's concerns and issues, identified during the scoping and public involvement process. Each alternative presents management strategies for resource protection and preservation, education and interpretation, visitor use and facilities, land protection and boundaries, and long-term operations and management of the park. The potential environmental consequences of all the alternatives, and mitigation strategies, are identified and analyzed in the FEIS. In addition to a “no-action” alternative, an “environmentally preferred” alternative is identified.

Proposed Plan and Alternatives: Alternative A constitutes the “no-action” alternative and assumes a continuation of existing management and trends at San Juan Island National Historical Park. The primary emphasis in current management is placed on the protection and preservation of cultural resources. Since 1966, the park has been listed in the National Register of Historic Places and is a National Historic Landmark. The management of cultural landscapes around the immediate encampment areas at American Camp and English Camp would continue to emphasize cultural landscape management while respecting the natural environment and natural processes. No new construction would be authorized.

Alternative B would increase visitor opportunities and outreach at both English Camp and American Camp, as well as in the town of Friday Harbor through additional visitor facilities, recreational opportunities, programs, and services. Natural and cultural resources interpretation would be enhanced through more extensive facilities and programs. At English Camp, the road system would be reconfigured as a one-way loop road by connecting a road segment approximately one-fifth mile long from the entrance road to the administrative road. The road would follow the existing historic road alignment where possible. The Crook house would be rehabilitated as a visitor contact facility on the ground floor and for administrative use on the second floor. At American Camp, the 1979 double-wide trailer that serves as the temporary visitor center at American Camp would be removed, the site restored to natural conditions, and a new enlarged visitor center would be constructed north of the redoubt. The new visitor center would include space for a collections study room for natural and cultural resource items, including a portion of the military-era collections. The existing road to the redoubt off Pickett's Lane would be removed and converted to a trail. The cultural landscapes would be enhanced to aid visitor understanding and interpretation through a variety of techniques. The prairie would be restored to native plant species. Off-island interpretation would be enhanced through partnerships. The park would propose boundary adjustments at both sites to include important natural and cultural resources related to the purpose of the park.

Alternative C is the agency-preferred alternative as it would broaden the scope of resource management and interpretation programs to emphasize connections and interrelationships between the park's natural and cultural resources. New facilities, trails and programs provide opportunities for visitors to understand the importance of the park's natural resources in defining the cultural landscapes and influencing the settlement and historic events of San Juan Island. At English Camp, the Crook house would be retained, stabilized, and used as an exterior exhibit while the hospital would be rehabilitated and opened to the public for interpretation. The 1979 double-wide trailer that serves as the temporary visitor center at American Camp would be removed and replaced with a permanent, enlarged visitor center at the existing site, allowing for improved exhibits and staff space. A collections study room for natural and cultural resource items, including a portion of the military-era collections would be relocated to the park. Additional buildings would be open to the public for interpretation as well as research and academic study. As in Alternative B, the existing road to the redoubt would be removed and converted to a trail and the prairie would be restored to native plant species. Historic buildings from the encampment period still existing on the island would be repatriated back to their original locations within the camps. Off-island interpretation would be enhanced through partnerships. Finally, the park would also propose adjusting the boundary at both sites to include important natural and cultural resources related to the purpose of the park. Alternative C is deemed to be the “environmentally preferred” alternative.

SUPPLEMENTARY INFORMATION: A Notice of Intent announcing preparation of the DEIS and general management plan was published in the Federal Register on February 5, 2003. The public scoping phase formally began in March 2003 when the NPS produced and distributed an initial newsletter announcing onset of the planning process and soliciting feedback on issues to be addressed in the plan. The newsletter was directly mailed to the park's 216 person mailing list. In addition, 4,000 copies of the newsletter were inserted into The Journal of the San Juan Islands newspaper, which reaches approximately 3,000 island residents and approximately 1,000 residents off-island. An additional 2,500 copies were distributed to area libraries, civic buildings, business, churches, museums, universities, communities, dignitaries and elected officials. The newsletter was also placed on the park's Web site to reach a wider audience.

Three public workshops were held in April 2003, with two in Friday Harbor, Washington and one in Seattle, Washington. Presentations about the mission of the National Park Service and purpose and significance of San Juan Island National Historical Park were followed by small group work sessions that allowed people to present and discuss issues, experiences, and ideas for the park. Approximately thirty-nine people attended the San Juan Island workshops, and an additional four participated in the Seattle workshop. Eighteen written responses were also collected during the scoping period.

A second newsletter was produced in November 2003 summarizing the comments received, written and oral, during the scoping period. The comments covered a broad range of issues, concerns, personal experiences, and recommendations for the park. When compiled, over 224 different comments or ideas were represented. The comments can be broadly organized in the following topics: Resource preservation and management; visitor experience and services; park facilities, operations, management and maintenance; and park administration and planning. Though many new actions and ideas were suggested by the public during this comment period, no new issues were identified.

On January 14, 2008, the NPS mailed 315 copies of the draft GMP/EIS to agencies, governmental representatives, organizations, and interested individuals. Copies of the draft GMP/EIS were placed in the Friday Harbor and Anacortes public libraries for public review. The draft GMP/EIS was also placed on the park's Planning, Environment, and Public Comment webpage, and linked to the park's home page, allowing people to access the document and comment electronically. The park's Notice of Availability was published in the Federal Register on January 28, 2008, providing details of the release of the draft GMP/EIS for public review; the Environmental Protection Agency's (EPA) notice of filing appeared on January 18, 2008. All comments received through March 24, 2008, were included in the official record.

A total of 2,000 newsletters were printed containing a summary of the draft GMP noting the public meetings and how individuals could obtain a full copy of the draft GMP/EIS. Each newsletter included a postage-paid return form for public comments. Newsletters were distributed to libraries, civic buildings, businesses, churches, museums, universities, communities, nonprofit organizations, and elected officials. The newsletter was also placed on the park's Web site and on the Planning, Environment, and Public Comment Web Site. An electronic public comment form was provided through this Web site.

Nine press releases were distributed and four newspapers—the Journal of the San Juan Islands, the Anacortes American, the Skagit Valley Herald, and the Bellingham Herald—placed advances in their papers and their online Web sites announcing the locations, times, and dates for the public workshops. The San Juan Islander, an online newspaper, also announced the public workshops.

In February 2008, the NPS planning team held three open houses in Anacortes, Washington and Friday Harbor, Washington. The purpose of the meetings was to provide an opportunity for the public to meet with the NPS planning team to discuss the draft GMP/EIS, clarify information, ask questions, and provide comments. Approximately 95 people attended the meetings and over one hundred comments were recorded during the sessions.

At the close of the public comment period, the NPS received a total of 30 pieces of written correspondence, including letters from agencies, organizations and individuals; “return forms” from the draft summary newsletter; electronic Web site comments and e-mails to the park. Comments were grouped into eleven broad categories, and of those categories, four major areas of emphasis emerged from the comments: alternative, resource preservation, visitor experience, and land protection/boundary. In addition, the EPA expressed environmental concerns about potential impacts to air and water quality, and requested additional data on current water and air quality within the park and mitigation strategies for air and water quality impacts. The FEIS has been updated with additional information to address EPA concerns, and contains responses to all substantive comments received from the public.

FOR FURTHER INFORMATION CONTACT: Interested persons and organizations may obtain the Final EIS/GMP or request further information by contacting Peter Dederich, Superintendent, San Juan Island National Historical Park, 650 Mullis Street, Suite 100, Friday Harbor, Washington 98250; or via telephone at (360) 378-2240. A limited number of additional hard copies of this report are available from the mailing address above. In addition, the final GMP/EIS is available in hard copy at the public library in Friday Harbor, Washington and electronically at the Planning, Environment, and Public Comment Web site http://parkplanning.nps.gov/sajh.

Decision Process: Following the release of the Final GMP/EIS, a Record of Decision will be prepared and approved not sooner than 30 days after the EPA has published its notice of filing of the document in the Federal Register. A notice of the approved GMP would be subsequently published. As a delegated EIS, the official responsible for the final decision is the Regional Director, Pacific West Region; subsequently the official responsible for implementation will be the Superintendent, San Juan Island National Historical Park.

Dated: July 27, 2008.
George J. Turnbull,
Acting Regional Director.

[FR Doc. E8-26128 Filed 10-31-08; 8:45 am]

BILLING CODE 4310-46-P